DEPARTMENT OF TRANSPORTATION

Office of the Secretary

Notice of Applications for Certificates of Public Convenience and Necessity and Foreign Air Carrier Permits Filed Under Subpart B (Formerly Subpart Q) During the Week Ending August 13, 2011

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2011-0148.

Date Filed: August 9, 2011.

Due Date for Answers, Conforming Applications, or Motion to Modify Scope: August 30, 2011.

Description: Application of Aeroenlaces Nacionales, S.A. de C.V. (“vivaAerobus”) requesting an exemption authorizing it to engage in scheduled foreign air transport of persons, property and mail between Monterrey, Mexico and Orlando, Florida; Monterrey, Mexico and Miami, Florida; Guadalajara, Mexico and Houston, Texas; and Guadalajara, Mexico and San Antonio, Texas. In addition, vivaAerobus requests that the Department amend the carrier's foreign air carrier permit to integrate the exemption authority requested herein and vivaAerobus's existing exemption authority to eliminate the need to apply for repeated renewals of the exemption authority.

Renee V. Wright,
Program Manager, Docket Operations, Federal Register Liaison.

[FR Doc. 2011-22400 Filed 8-31-11; 8:45 am]

BILLING CODE 4910-9X-P